OFFICE OF THE UNITED STATES TRADE REPRESENTATIVE

Trade Policy Staff Committee; Generalized System of Preferences (GSP); Notice of the Results of the 2001 GSP Reviews and Designation of Georgia

AGENCY: Office of the United States Trade Representative.

ACTION: Notice of GSP changes.

SUMMARY: This notice announces recent changes in the GSP program, including the disposition of the 2001 De Minimis Waiver and Redesignation Reviews, termination of GSP eligibility for products that exceeded the GSP competitive need limitations (CNLs). and the designation of Georgia as beneficiary developing country.

FOR FURTHER INFORMATION CONTACT: GSP Subcommittee, Office of the United States Trade Representative, 600 17th Street, NW., Room 518, Washington, DC 20508. The telephone number is (202) 395-6971.

SUPPLEMENTARY INFORMATION: The GSP program is provided for in Title V of the Trade Act of 1974, as amended (19 U.S.C. 2461-2465). Each year, the Trade Policy Staff Committee conducts a review to consider changes in the GSP program. In the 2001 De Minimis Waiver and Redesignation Reviews, the appraised import values during 2000 of each GSP-eligible article were reviewed to determine whether particular articles from particular GSP beneficiary developing countries exceeded the 2000 GSP CNLs.

The President's decisions concerning the GSP changes summarized in this notice are reflected in a proclamation issued on June 29, 2001. Unless otherwise specified, the changes in the GSP program summarized in this notice are effective with respect to goods entered on or after July 1, 2001.

The President granted waivers of the CNLs to India for several articles. These articles are listed in Annex I to this notice. The effective date of these waivers will be determined by the USTR.

The President redesignated certain countries' GSP eligibility for certain articles that had previously exceeded the applicable GSP CNLs, but which fell below the CNLs in 2000 ($95 million or 50 percent of total U.S. imports of the article). These countries and articles are listed in Annex II to this notice.

The President granted de minimis waivers to certain countries for certain articles that exceeded the 50 percent import share CNL, but for which the aggregate appraised value of the imports of that article was below the 2000 de minimis level of $15 million. These countries and articles are listed in Annex III to this notice.

The President terminated certain countries' GSP eligibility for certain articles that exceeded the GSP CNLs in 2000. These countries and articles are listed in Annex IV to this notice.

The President designated Georgia as beneficiary developing country.

Jon Rosenbaum,
Chairman, GSP Subcommittee, Trade Policy Staff Committee.

BILLING CODE 3190-01-M

[FR Doc. 01-17236 Filed 7-9-01; 8:45 am]

BILLING CODE 3190-01-C